DEPARTMENT OF AGRICULTURE

Forest Service

Forest Service Handbook 2309.13, Chapter 50; Operation and Maintenance of Developed Recreation Sites

AGENCY: Forest Service, USDA.

ACTION: Notice of availability for public comment; correction.

SUMMARY: The Forest Service published a document in the Federal Register of July 9, 2020, concerning request for comments on a proposed directive to update its handbook on operation and maintenance of recreation sites on National Forest System lands that contain infrastructure or amenities authorized by the Forest Service for public enjoyment and resource protection. The document contained an incorrect link to the proposed directive; updated contact information and text.

FOR FURTHER INFORMATION CONTACT: Matt Arnn, Recreation Staff, by phone at 917-597-6488 or via email at matthew.arnn@usda.gov.

SUPPLEMENTARY INFORMATION:

Correction

In the Federal Register of July 9, 2020, in FR Doc. 2020-14785, on page 41226, in the third column, correct under the ADDRESSES caption to read:

ADDRESSES: Comments may be submitted electronically to https://cara.ecosystem-management.org/Public/CommentInput?project=ORMS-2572. Written comments may be mailed to Director, Recreation Staff, 1400 Independence Avenue SW, Washington, DC 20250-1124. All timely received comments, including names and addresses, will be placed in the record and will be available for public inspection and copying. The public may inspect comments received at https://cara.ecosystem-management.org/Public/ReadingRoom?project=ORMS-2572.

Correction

On page 41227, in the first column, correct under the FOR FURTHER INFORMATION CONTACT caption to read:

Matt Arnn, Recreation Staff, 917-597-6488, matthew.arnn@usda.gov. Individuals who use telecommunication devices for the deaf may call the Federal Relay Service at 800-877-8339 between 8:00 a.m. and 8:00 p.m., Eastern Standard Time, Monday through Friday.

Correction

On page 41227, in the first column, correct under the SUPPLEMENTARY INFORMATION caption to read:

The United States Department of Agriculture (USDA), Forest Service is proposing to update its handbook on operation and maintenance of recreation sites on National Forest System lands that contain infrastructure or amenities for public enjoyment and resource protection. Examples of developed recreation sites include boat launches, campgrounds, climbing areas, day use areas, picnic sites, fishing sites, group campgrounds and picnic sites, horse camps, informational and interpretive sites, visitor centers, recreation rental cabins, observation sites, off-highway vehicle staging areas, Nordic ski areas, developed swimming sites, snow play areas, target ranges, trailheads, and wildlife viewing sites.

Developed recreation sites may be operated and maintained by Forest Service personnel or by a concessioner under a special use permit. This chapter addresses operation and maintenance of developed recreation sites by the Forest Service, including Forest Service operation of a concession site during a shoulder season. See FSM 2340 for direction on issuance and administration of special use permits for operation and maintenance of developed recreation sites by concessioners.

Tina Johnna Terrell,
Associate Deputy Chief, National Forest System.

[FR Doc. 2020-17262 Filed 8-6-20; 8:45 am]

BILLING CODE 3411-15-P